ENVIRONMENTAL PROTECTION AGENCY

40 CFR Part 300

[FRL-6861-8]

National Oil and Hazardous Substances Pollution Contingency Plan; National Priorities List

AGENCY: The Environmental Protection Agency (EPA).

ACTION: Proposed Deletion of the Wheeling Disposal Service Company, Incorporated, Landfill Site (site) from the National Priorities List (NPL).

SUMMARY: The EPA Region VII proposes to delete the Wheeling Disposal Service Company, Incorporated, Landfill site from the NPL and requests public comment on this action. The NPL constitutes Appendix B to Part 300 of the National Oil and Hazardous Substances Pollution Contingency Plan (NCP), which EPA promulgated pursuant to Section 105 of the Comprehensive Environmental Response, Compensation, and Liability Act of 1980 (CERCLA), as amended. The EPA has determined that the site poses no significant threat to public health or the environment, as defined by CERCLA; and therefore, further remedial measures pursuant to CERCLA are not appropriate.

We are publishing this rule without prior proposal because the Agency views this as a noncontroversial revision and anticipates no dissenting comments. A detailed rationale for this approval is set forth in the direct final rule that appears elsewhere in this issue of the Federal Register. If no dissenting comments are received, no further activity is contemplated. If EPA receives dissenting comments, the direct final action will be withdrawn, and all public comments received will be addressed in a subsequent final rule based on this proposed rule. The EPA will not institute a second comment period. Any parties interested in commenting should do so at this time.

DATES: Comments concerning this Action must be received by October 2, 2000.

ADDRESSES: Comments may be mailed to Catherine Barrett, Remedial Project Manager, Superfund Division, Missouri/Kansas Remedial Branch, U.S. Environmental Protection Agency, Region VII, 901 North 5th Street, Kansas City, Kansas 66101. Comprehensive information on this site is available through the public docket which is available for viewing at the Site Information Repository at U.S. EPA Region VII, Superfund Division Records Center, 901 North 5th Street, Kansas City, Kansas 66101 or Wheeling Local Repository, Rolling Hills Library, 514 West Main Street, Savannah, Missouri.

FOR FURTHER INFORMATION CONTACT: Catherine Barrett, Remedial Project Manager, Superfund Division, U.S. Environmental Protection Agency, 901 North 5th Street, Kansas City, Kansas 66101, telephone (913) 551-7704, fax (913) 551-7063.

SUPPLEMENTARY INFORMATION: For additional information, see the Direct Final Action which is located in the Rules Section of this Federal Register.

Dated: August 18, 2000.
William Rice,
Acting Regional Administrator, Region VII.

[FR Doc. 00-22378 Filed 8-30-00; 8:45 am]

BILLING CODE 6560-50-P